DEPARTMENT OF AGRICULTURE

Forest Service

Siskiyou County Resource Advisory Committee

AGENCY: Forest Service, USDA.

ACTION: Notice of meeting.

SUMMARY: The Siskiyou County Resource Advisory Committee will meet in Yreka, California, December 16, 2002. The meeting will include routine business, a presentation on Klamath National Forest's fire fuels management activities and the California Division of Forestry and Fire Protection community programs. A presentation by Great Northern Corporation and the Shasta Valley Resource Conservation District will also be made. The meeting will be preceded by a field trip to the Klamath River Community Corridor fuels reduction project. No business will be conducted during the field trip.

DATES: The meeting will be held December 16, 2002 from 4 p.m. until 6 p.m.

ADDRESSES: The meeting will be held at the Yreka High School Library, Preece Way, Yreka, California.

FOR FURTHER INFORMATION CONTACT: Don Hall, RAC Coordinator, Klamath National Forest, (530) 841-4468 or electronically at donaldhall@fs.fed.us.

SUPPLEMENTARY INFORMATION: The meeting is open to the public. Public comment opportunity will be provided and individuals will have the opportunity to address the Committee at that time.

Dated: November 27, 2002.
Margaret J. Boland,
Designated Federal Official.

[FR Doc. 02-30806 Filed 12-4-02; 8:45 am]

BILLING CODE 3410-11-M